DEPARTMENT OF COMMERCE

Foreign-Trade Zones Board

[Order No. 1894]

Grant of Authority for Subzone Status, Hemlock Semiconductor Corporation, (Polysilicon), Hemlock, Michigan

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the City of Flint, grantee of Foreign-Trade Zone 140, has made application to the Board for authority to establish a special-purpose subzone with certain manufacturing authority at the polysilicon manufacturing facility of Hemlock Semiconductor Corporation, located in Hemlock, Michigan (FTZ Docket 61-2011, filed 10-5-2011);

Whereas, notice inviting public comment has been given in the Federal Register (76 FR 63282, 10-12-2011; 76 FR 76934, 12-9-2011; 76 FR 81475, 12-28-2011; 77 FR 21082, 4-9-2012; 77 FR 30500, 5-23-2012) and the application has been processed pursuant to the FTZ Act and the Board's regulations; and

Whereas, the Board adopts the findings and recommendations of the examiner's report, and finds that the requirements of the FTZ Act and the Board's regulations would be satisfied, and that the proposal would be in the public interest if subject to the restriction and condition below;

Now, therefore, the Board hereby grants authority for subzone status for activity related to the manufacturing of polysilicon at the facility of Hemlock Semiconductor Corporation, located in Hemlock, Michigan (Subzone 140C), as described in the application and Federal Register notice, subject to the FTZ Act and the Board's regulations, including Section 400.13, and further subject to a restriction prohibiting admission of foreign status silicon metal subject to an antidumping or countervailing duty order and to a condition that the company shall submit supplemental reporting data, as specified by the Executive Secretary, for the purpose of monitoring by the FTZ staff.

Signed at Washington, DC, this 2nd day of April 2013.
Paul Piquado,
Assistant Secretary of Commerce for Import Administration, Alternate Chairman, Foreign-Trade Zones Board.

Attest:

Andrew McGilvray,
Executive Secretary.

[FR Doc. 2013-08230 Filed 4-9-13; 8:45 am]

BILLING CODE 3510-DS-P